DEPARTMENT OF THE INTERIOR

Bureau of Land Management

[CA-160-1430-ET; CACA 7682 and CACA 42632]

Public Land Order No. 7501; Partial Revocation of Executive Order Dated June 8, 1866, and Withdrawal of Public Land for Piedras Blancas Light Station; California

AGENCY: Bureau of Land Management, Interior.

ACTION: Public land order.

SUMMARY: This order partially revokes an executive order insofar as it affects 19.9 acres of public land withdrawn for lighthouse purposes. The land is no longer needed by the United States Coast Guard for the purpose for which it was withdrawn. This order also withdraws the same land from surface entry, mining, mineral leasing, and mineral material sales for a period of 20 years for the Bureau of Land Management to assure long term protection and preservation of the historic Piedras Blancas Light Station and associated values.

EFFECTIVE DATE: October 12, 2001.

FOR FURTHER INFORMATION CONTACT: Duane Marti, BLM California State Office, 2800 Cottage Way, Sacramento, California 95825-1886, 916-978-4675.

SUPPLEMENTARY INFORMATION: By virtue of the authority vested in the Secretary of the Interior by section 204 of the Federal Land Policy and Management Act of 1976, 43 U.S.C. 1714 (1994), it is ordered as follows:

1. The Executive Order, dated June 8, 1866, which withdrew public land for lighthouse purposes, is hereby revoked insofar as it affects the following described land (CACA 7682):

Mount Diablo Meridian

T. 26 S., R. 6 E.,

U.S. Lighthouse Reserve.

The area described contains 19.90 acres in San Luis Obispo County.

2. Subject to valid existing rights, the land described in Paragraph 1, is hereby withdrawn from settlement, sale, location, or entry under the general land laws, including the United States mining laws, 30 U.S.C. Ch. 2 (1994), mineral leasing laws, 30 U.S.C. 181 et seq. (1994), and mineral material sale laws, 30 U.S.C. 601-604 (1994), for the Bureau of Land Management to assure long term protection and preservation of the historic Piedras Blancas Light Station and associated values (CACA 42632).

4. This withdrawal will expire 20 years from the effective date of this order unless, as a result of a review conducted before the expiration date pursuant to Section 204(f) of the Federal Land Policy and Management Act of 1976, 43 U.S.C. 1714(f) (1994), the Secretary determines that the withdrawal shall be extended.

Dated: September 21, 2001.
J. Steven Griles,
Deputy Secretary.

[FR Doc. 01-25690 Filed 10-11-01; 8:45 am]

BILLING CODE 4310-40-P